NATIONAL CREDIT UNION ADMINISTRATION

Sunshine Act: Notice of a Matter To Be Removed From the Agenda for Consideration at an Agency Meeting

FEDERAL REGISTER CITATION OF PREVIOUS ANNOUNCEMENT: November 18, 2019 (84 FR 63680).

TIME AND DATE: 11:30 a.m., Thursday, November 21, 2019.

PLACE: Board Room, 7th Floor, Room 7047, 1775 Duke Street, Alexandria, VA 22314-3428.

STATUS: Closed

Pursuant to the provisions of the “Government in Sunshine Act” notice is hereby given that the NCUA Board gave notice on November 18, 2019 (84 FR 63680) of the closed meeting of the NCUA Board scheduled for November 21, 2019. Prior to the meeting, on November 19, 2019, the NCUA Board unanimously determined that agency business required removal of an item on the agenda with less than seven days' notice to the public, and that no earlier notice of the addition was possible.

MATTER TO BE REMOVED:

1. Personnel Action. Closed pursuant to Exemptions (2), and (6).

FOR FURTHER INFORMATION CONTACT: Gerard Poliquin, Secretary of the Board, Telephone: 703-518-6304.

Gerard Poliquin,
Secretary of the Board.

[FR Doc. 2019-25589 Filed 11-20-19; 4:15 pm]

BILLING CODE 7535-01-P